DEPARTMENT OF ENERGY

Idaho Operations Office; Supporting Industries

AGENCY: Idaho Operations Office, DOE.

ACTION: Notice of availability of financial assistance solicitation.

SUMMARY: The U.S. Department of Energy (DOE) Idaho Operations Office (ID) is seeking applications for cost-shared research and development of technologies which will reduce energy consumption, reduce environmental impacts and enhance economic competitiveness of two or more of the following Industry of the Future Sectors: Aluminum, Steel, Forest Products, Glass, Agriculture, Chemicals, Metal Casting, Mining, and Petroleum Refining. The research is to address research priorities identified in Technology Roadmaps developed for the following Supporting Industries: Heat Treating, Forging, Welding, Industrial Process Heating and Advanced Ceramics.

DATES: The issuance date of Solicitation Number DE-PS07-01ID14026 will be on or about November 20, 2000. The deadline for receipt of applications will be approximately on February 7, 2001.

ADDRESSES: The solicitation in its full text will be available on the Internet at the following URL address: http://www.id.doe.gov/doeid/PSD/proc-div.html or http://e-center.doe.gov. Applications should be submitted to: Seb Klein, Procurement Services Division, U.S. Department of Energy, Idaho Operations Office, 850 Energy Drive, Mail Stop 1221, Idaho Falls, Idaho 83401-1563.

FOR FURTHER INFORMATION CONTACT: Seb Klein, Contract Specialist, kleinsm@id.doe gov.

SUPPLEMENTARY INFORMATION: The statutory authority for the program is the Federal Non-Nuclear Energy Research and Development Act of 1974 (Pub. L. 93-577). The Catalog of Federal Domestic Assistance (CFDA) Number for this program is 81.086.

R.J. Hoyles,
Director, Procurement Services Division.

[FR Doc. 00-30405 Filed 11-28-00; 8:45 am]

BILLING CODE 6450-01-P